DEPARTMENT OF COMMERCE

National Oceanic and Atmospheric Administration

[RTID 0648-XD829]

Marine Mammals; File No. 27973

AGENCY: National Marine Fisheries Service (NMFS), National Oceanic and Atmospheric Administration (NOAA), Commerce.

ACTION: Notice; receipt of application.

SUMMARY: Notice is hereby given that the Texas A&M University—Corpus Christi, Department of Life Sciences, Tidal Hall 231, Corpus Christi, TX 78412 (Responsible Party: Dara Orbach, Ph.D.), has applied in due form for a permit to conduct research on bottlenose dolphins (Tursiops truncatus).

DATES: Written comments must be received on or before April 29, 2024.

ADDRESSES: The application and related documents are available for review by selecting “Records Open for Public Comment” from the “Features” box on the Applications and Permits for Protected Species home page, https://apps.nmfs.noaa.gov, and then selecting File No. 27973 from the list of available applications. These documents are also available upon written request via email to NMFS.Pr1Comments@noaa.gov.

Written comments on this application should be submitted via email to NMFS.Pr1Comments@noaa.gov. Please include File No. 27973 in the subject line of the email comment.

Those individuals requesting a public hearing should submit a written request via email to NMFS.Pr1Comments@noaa.gov. The request should set forth the specific reasons why a hearing on this application would be appropriate.

FOR FURTHER INFORMATION CONTACT: Amy Hapeman or Erin Markin, Ph.D., (301) 427-8401.

SUPPLEMENTARY INFORMATION: The subject permit is requested under the authority of the Marine Mammal Protection Act of 1972, as amended (MMPA; 16 U.S.C. 1361 et seq.), and the regulations governing the taking and importing of marine mammals (50 CFR part 216).

The applicant proposes to continue to study the population biology, behavior, and health of common bottlenose dolphins in Central and South Texas waters (bays, sounds, estuaries). The research aims to: (1) establish dolphin spatiotemporal patterns; (2) maintain a photo-identification catalog of dolphins; (3) analyze dolphin behavior relative to anthropogenic disturbance; and (4) determine the health condition of dolphins. Researchers would harass up to 3,081 dolphins annually during unmanned aircraft surveys and vessel-based surveys for photo-identification, observations, and passive acoustic monitoring. A subset of 90 dolphins would also be biopsy sampled annually. The permit would be valid for 5 years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: March 26, 2024.
Julia M. Harrison,
Chief, Permits and Conservation Division, Office of Protected Resources, National Marine Fisheries Service.

[FR Doc. 2024-06727 Filed 3-28-24; 8:45 am]

BILLING CODE 3510-22-P